DEPARTMENT OF TRANSPORTATION

Research and Special Programs Administration

Actions on Exemption Applications

AGENCY: Research and Special Programs Administration, DOT

ACTION: Notice of actions on exemption applications.

SUMMARY: In accordance with the procedures governing the application for, and the processing of, exemptions from the Department of Transportation's Hazardous Materials Regulations (49 CFR Part 107, Subpart B), notice is hereby given of the actions on exemption applications in January-March 2003. The modes of transportation involved are identified by a number in the “Nature of Application” portion of the table below as follows: 1—Motor vehicle, 2—Rail freight, 3—Cargo vessel, 4—Cargo aircraft only, 5—Passenger-carring aircraft. Application numbers prefixed by the letters EE represent applications for Emergency Exemptions. It should be noted that some of the sections cited were those in effect at the time certain exemptions were issued.

Issued in Washington, DC, on June 26, 2003.
R. Ryan Posten,
Exemptions Program Officer, Office of Hazardous Materials Exemptions and Approvals.

Application No. | Exemption No. | Applicant | Regulation(s) affected | Nature of exemption thereof
MODIFICATION EXEMPTIONS
8760-M | DOT-E 8760 | Barton Solvents, Inc., Des Moines, IA | 49 CFR 172.328, 172.334(b) | To modify the exemption to authorize the transportation of additional Class 3 materials in compartmented cargo tank motor vehicles.
9778-M | DOT-E 9778 | Baker Atlas, Houston, TX | 49 CFR 173.304, 173.306 | To modify the exemption to authorize the transportation of an additional Class 7 material in non-DOT specification packaging.
9909-M | DOT-E 9909 | Taylor-Wharton, Harrisburg, PA | 49 CFR 173.301(h), 173.302, 173.304, 173.34(a)(1), 175.3, 178.37 | To modify the exemption to authorize the elimination of the Fracture Toughness Test requirement on non-DOT specification steel cylinders transporting Division 2.1, 2.2 and 2.3 materials.
10143-M | DOT-E 10143 | Eurocom, Inc., Irving, TX | 49 CFR 173.306(a), 178.33a | To modify the exemption to authorize the transportation of additional Division 2.2 materials in a non-refillable, non-DOT specification inside metal container.
10232-M | DOT-E 10232 | Sexton Can Company, Inc., Cambridge, MA | 49 CFR 173.304 | To modify the exemption to authorize a capacity increase to 40 cubic inches of the non-refillable, non-DOT specification container for the transportation of Division 2.2 materials.
10880-M | DOT-E 10880 | American West Explosives, Inc., Springfield, MO | 49 CFR 172.101 column (8c), 173.114, 173.35(b) | To modify the exemption to authorize the transportation of Division 1.1D, 1.4D, 1.4B, 1.4S and additional 1.5D materials in reusable, flexible intermediate bulk containers.
11099-M | DOT-E 11099 | AMKO A Service Company, Gnadenhutten, OH | 49 CFR 173.302(c), 173.34(e) | To modify the exemption to authorize retesting of DOT Specification 3A and 3AA cylinders by acoustic emission (AE) and ultrasonic examination (UE) method for the transportation of Division 2.1 and 2.2 materials.
11194-M | DOT-E 11194 | Carleton Technologies, Inc., Glen Burnie, MD | 49 CFR 173.302(a), 173.304(a), 175.3 | To modify the exemption to authorize the transportation of additional Division 2.2 materials in a non-DOT specification fully wrapped, carbon-fiber reinforced aluminum-lined cylinder.
11489-M | DOT-E 11489 | TRW Automotive, Queen Creek, AZ | 49 CFR 172.320, 173.56(b) | To modify the exemption to authorize the use of a contract carrier for transporting certain unapproved or unidentified items as approved, air bag inflators or air bag modules or seat belt pretensioners or seat belt modules as Division 1.4C explosive articles, segregated from other hazardous materials.
11494-M | DOT-E 11494 | Atlantic Research Corp. (Automotive Products Group), Knoxville, TN | 49 CFR 173.301(h), 173.302, 173.306(d)(3) | To modify the exemption to authorize the elimination of the flattening test requirement on non-DOT specification cylinders transporting Division 2.2 materials.
11650-M | DOT-E 11650 | Autoliv ASP, Inc., Ogden, UT | 49 CFR 178.65-9 | To modify the exemption to authorize a newly designed airbag inflator device with a maximum service pressure of 8500 PSIG for use as a component of a automobile vehicle safety system.
11691-M | DOT-E 11691 | Cott Concentrates, Columbus, GA | 49 CFR 176.331, 176.800(a), 176.83(d) | To modify the exemption to authorize the transportation of an additional Class 8 material via cargo vessel.
11850-M | DOT-E 11850 | Air Transport Association, Washington, DC | 49 CFR 173.34(e) | To modify the exemption to authorize the use of certain DOT and non-DOT specification cylinders fabricated from 4130 steel and titanium for the transportation of Division 2.2 materials.
11970-M | DOT-E 11970 | ExxonMobil Chemical Company, Houston, TX | 49 CFR 172.101, 178.245-1(c) | To modify the exemption to authorize the transportation of a hazardous material using an alternative shipping description for Division 4.2 materials with a Division 4.3 subsidiary hazard in non-DOT specification steel portable tanks.
11993-M | DOT-E 11993 | BREED Technologies, Inc., Lakeland, FL | 49 CFR 173.301(h), 173.302, 173.306(d)(3) | To modify the exemption to authorize the transportation of Division 1.4G and Class 9 materials in non-DOT specification cylinders for use as components of automobile safety restraint systems.
12056-M | DOT-E 12056 | Department of Defense (MTMC), Fort Eustis, VA | 49 CFR 173.226, 173.336 | To modify the exemption to authorize two additional destination facilities and authorize an increased number of round trip shipments containing Division 2.3 and 6.1 materials.
12104-M | DOT-E 12104 | Mitsubishi Polyester Film, Greer, SC | 49 CFR 174.67(i) | To modify the exemption to upgrade loading procedures and drawings for the DOT Specification tank cars transporting Class 9 materials.
12782-M | DOT-E 12782 | Air Liquide America L.P., Houston, TX | 49 CFR 173.301(g)(1) | To modify the exemption to authorize the transportation of certain Division 2.2 and 2.3 materials in DOT Specification cylinders equipped with plastic valve protection caps.
12866-M | DOT-E 12866 | Delta Air Lines (Technical Operations Center), Atlanta, GA | 49 CFR 172.301(c), 173.219(b)(1), 173.302(a), 175.3 | To reissue the exemption originally issued on an emergency basis and to remove certain special provisions/requirements for the non-DOT specification cylinders containing Division 2.2 materials that have inadvertently been mis-marked.
12886-M | DOT-E 12886 | The Society of the Plastics Industry, Inc., Washington, DC | 49 CFR 172.301(c), 172.402 | To reissue the exemption originally issued on an emergency basis for the transportation of a Division 5.2 material without subsidiary hazard labels.
12927-M | DOT-E 12927 | Tri-Wall, A Weyerhaeuser Business, Butler, IN | 49 CFR 173.12(b)(2)(i) | To modify the exemption to authorize cargo vessel as an additional mode for the transportation of various waste hazardous materials.
12995-M | DOT-E 12995 | The Dow Chemical Company, Midland, MI | 49 CFR 173.306(a)(3)(v) | To modify the exemption to authorize the transportation of a Division 2.2 material in DOT 2Q Specification non-refillable containers.
13032-M | DOT-E 13032 | CONAX Florida Corporation, St. Petersburg, FL | 49 CFR 178.65 | To reissue the exemption originally issued on an emergency basis for the use of non-DOT specification, non-refillable composite pressure vessels for the transportation of Division 2.2 materials.
13113-M | DOT-E 13113 | Dow AgroSciences L.L.C., Indianapolis, IN | 49 CFR 172.302, 173.243 (b) and (c) | To reissue the exemption originally issued on an emergency basis for the transportation of Division 6.1 materials in DOT Specification cargo tank motor vehicles and portable tanks.
13163-M | DOT-E 13163 | Pacific Bio-Material Management, Inc., Fresno, CA | 49 CFR 173.196(b), 173.196(e)(2)(ii) | To reissue the exemption originally issued on an emergency basis for the transportation of certain Division 6.2 materials in specially designed packaging.
NEW EXEMPTIONS
12718-N | DOT-E 12718 | Weldship Corporation, Bethlehem, PA | 49 CFR 172.301, 173.34(e), 173.34(e)(3), 173.34(e)(4), 173.34(e)(5), 173.34(e)(6), 173.34(e)(7), 173.34(e)(8) | To authorize the transportation in commerce of certain DOT-3AL seamless aluminum cylinders constructed of alloy 6061 that have been alternatively ultransonically retested for use in transporting Division 2.1, 2.2, 2.3, materials. (modes 1, 2, 3, 4,)
12879-N | DOT-E 12879 | Millennium Speciality Chemicals, Jacksonville, FL | 49 CFR 172.514 | To authorize the transportation in commerce of portable tanks and IBCs containing combustible liquids without required placards when placed in closed sealed freight containers that are properly placarded. (modes 1, 3)
12990-N | DOT-E 12990 | Technifab Products, Inc., Brazil, IN | 49 CFR 178.57(1) | To authorize the manufacture, mark, sale and use of cryogenic tanks equipped with alternative openings and testing criteria for use in transporting hazardous materials. (mode 1)
12998-N | DOT-E 12998 | Safety-Kleen Services, Inc., Columbia, SC | 49 CFR 173.12(b)(1) | To authorize the transportation in commerce of non-waste material from one location to another location for various customers in lab packs. (mode 1)
13046-N | DOT-E 13046 | Consani Engineering, Elsies River, South Africa | 49 CFR 178.245-1(a) | To authorize the manufacture, marking, sale and use of certain DOT Specification 51 steel portable tanks permanently fixed within ISO frames designed in accordance with Section VIII, Division II of the ASME code instead of Section VIII, Division 1 for use in transporting Division 2.1, 2.2 an 2.3 hazardous materials. (modes 1, 2, 3)
13084-N | DOT-E 13084 | Schering-Plough Veterinary Operations, Inc., Baton Rouge, LA | 49 CFR 173.150(f) | To authorize the transportation in commerce of flammable liquids, n.o.s. in 75-gallon stainless steel tanks between two facilities with minimal regulation. (mode 1)
13088-N | DOT-E 13088 | Electron Transfer Technologies, Inc., Edison, NJ | 49 CFR 173.192, 173.40, 178.604 | To authorize the transportation in commerce of Division 2.3, 6.1 & Class 8 hazardous material in specially designed stainless steel containers overpacked in reusable 30-gallon steel containers. (modes 1, 3, 4)
13110-N | DOT-E 13110 | Praxair, Inc., Danbury, CT | 49 CFR 173.242 | To authorize the transportation in commerce of a non-DOT specification bulk packaging for use in transporting metal catalyst, dry, Division 4.2. (modes 1, 3)
13112-N | DOT-E 13112 | Conax Florida Corporation, St. Petersburg, FL | 49 CFR 173.302, 175.3 | To authorize the manufacture, mark, sale and use of non-DOT specification non-reusable cylinders conforming with all regulations similar to DOT specification 39 cylinder for use in transporting Division 2.2 material. (modes 1, 2, 3, 4, 5)
13116-N | DOT-E 13116 | Chromatography Research Supplies, Inc., Louisville, KY | 49 CFR 173.151(b) | To authorize the transportation in commerce of gas filters containing limited quantities of hazardous materials classed as self-heating solid, inorganic, n.o.s. to be transported under the limited quantity provisions as Division 4.1 without required labelling or placarding. (modes 1, 4, 5)
13117-N | DOT-E 13117 | TEN-E Packaging Services, Newport, MN | 49 CFR 173.21(i) | To authorize an alternative examiner other than the Bureau of Explosives for cigarette lighter and inner packaging approval requests. (mode 1)
13164-N | DOT-E 13164 | United States Enrichment Corporation (USEC), Bethesda, MD | 49 CFR 173.420 | To authorize the one-time transportation in commerce of 480M type cylinders for use in transporting Class 7 hazardous materials. (modes 1, 2)
13165-N | DOT-E 13165 | Harris Corporation, Melbourne, FL | 49 CFR 172.200 | To authorize the transportation in commerce of non-bulk hazardous materials within the same facility along public roads with alternative shipping papers. (mode 1)
13172-N | DOT-E 13172 | Raytheon Co., Tewksbury, MA | 49 CFR 173.302(a), 175.3 | To authorize the transportation in commerce of helium, Division 2.2, in fully wrapped carbon-fiber reinforced aluminum lined non-DOT cylinders with a maximum service pressure of 3240 psi and a water capacity of 260 liters. (modes 1, 2, 3, 4, 5)
13180-N | DOT-E 13180 | The Association of HazMat Shippers, Washington, DC | 49 CFR 123, 172.203(a), 172.301(c), 173.22, 173.306, 173.306(a)(1) | To authorize the transportation in commerce of aerosols with a capacity of 50 ml or less containing Division 2.2 gas and no other hazardous materials be transported without certain hazard communication requirements. (modes 1, 2, 3)
0113215-N | DOT-E 13215 | Cryogenic Manufacturing and Repair, Inc., Eagle Lake, TX | 49 CFR 174.85 | To authorize the manufacture, mark, sale and use of non-DOT specification insulated portable tanks for use in transporting Division 2.2 hazardous materials. (mode 2)
EMERGENCY EXEMPTIONS
EE 10996-M | DOT-E 10996 | AeroTech, Inc., Las Vegas, NV | 49 CFR 173 Subpart C | Emergency modification request to add cargo aircraft as a mode of transportation. (modes 1, 2)
EE 11536-M | DOT-E 11536 | The Boeing Company, Los Angeles, CA | 49 CFR 173.159, 173.302, 173.304, 173.62 | Request for emergency modification to the exemption to authorize two containers with different dimensions and add Hydrogen, compressed for spacecraft batteries. (mode 4)
EE 12961-N | DOT-E 12961 | Kuehne Chemical Co., South Kearny, NJ | 49 CFR 172.302(c), 173.24(b), 179.300-12(b), 179.300-13, 173.24 | Request for an emergency exemption to transport a leaking ton cylinder that has been fitted with a B kit to prevent leaking during transportation. (mode 1)
EE 13042-M | DOT-E 13042 | U.S. Department of State, Sterling, VA | 49 CFR 172.101 Table Column 8C | Emergency request to modify the exemption to authorize larger size solid materials that are contaminated with or suspected of being contaminated with anthrax bacteria or spores. (mode 1)
EE 13127-M | DOT-E 13127 | American Pacific Corporation, Cedar City, UT | 49 CFR 172.102(c) SP IB6 | Emergency request for modification to authorize the transportation in commerce of potassium perchlorate in UN Specification flexible IBCs. (mode 1)
EE 13141-N | DOT-E 13141 | Airgas Specialty Gases, Cheshire, CT | 49 CFR 172.301(c), 173.301(f) | Emergency request to transport a DOT specification 4BW240 cylinder containing sulfur dioxide which developed a leak and has a Chlorine Institute A kit applied. (mode 1)
EE 13156-M | DOT-E 13156 | Phelps Sungas, Geneva, NY | 49 CFR 178.337-14 | Emergency request for modification to authorize continued use of MC 331 cargo tank motor vehicles with specification plates that are missing certain required markings. (mode 1)
EE 13185-M | DOT-E 13185 | TRW, Washington, MI | 49 CFR 172.101 | Extension of the effective date signed today and given to Michelle Ford for scanning. (mode 1)
EE 13187-M | DOT-E 13187 | Radiation Management Services, Cardinal Health, Cleveland, OH | 49 CFR 173.302 | Emergency request to modify the exemption to authorize the transportation in commerce of a mixture of Division 2.2 gases in non-specification packaging. (modes 1, 2, 3)
EE 13193-N | DOT-E 13193 | Delta Airlines | 49 CFR 172.101 HMT Column 9A | Emergency request to authorize the transportation of more than 3200 pounds of Division 1.4S ammunition on passenger carrying aircraft. (mode 5)
EE 13195-N | DOT-E 13195 | Micro Parts Inc., Easgan, MN | 49 CFR 173.240 | Emergency request for the transportation in commerce of a DOT Specification IBC containing hazard waste solid. The IBC has a small crack and is transported on a base support pallet and enclosed in a double bag of 4 mil plyethylene plastic. (mode 1)
EE 13196-N | DOT-E 13196 | McLane Company Inc., Temple, TX | 49 CFR 172.102 special provision N10 | Emergency request to authorize the transportation in commerce of lighters in a plastic tote that meets packing group II performance level but is not marked. (mode 1)
EE 13197-N | DOT-E 13197 | Chevron Texaco | 49 CFR 173.212 | Emergency request to authorize the transportation in commerce of hydrogen in metal hydride in alternative packaging. (mode 1)
EE 13198-N | DOT-E 13198 | MI L.L.C., Anchorage, AK | 49 CFR 172.101 HMT Column 9B, 173.203 | Emergency request to authorize the transportation in commerce of a Class 8 material in alternative packaging and exceeding the quantity limits by cargo aircraft only where no other means of transportation is available. (modes 1, 4)
EE 13204-N | DOT-E 13204 | Esoterix, Inc., Austin, TX | 49 CFR 173.197 | Emergency request to authorize the transportation in commerce of regulated medical waste in alternative packaging. (modes 1, 4, 5)
EE 13205-N | DOT-E 13205 | Western Propane Gas Association, Sacramento, CA | 49 CFR 173.315(j)(4) | Emergency request to authorize the transportation in commerce of non-specification portable tanks that are built to ASME standards that are 40-70% full of propane. (mode 1)
EE 13207-N | DOT-E 13207 | BEI Hawaii, Honolulu, HI | 49 CFR 173.32(f)(5) | Emergency request to authorize the transportation in commerce of certain hazardous materials in portable tanks that are loaded between 70 and 76 percent filling density by volume. (mode 1)
EE 13214-N | DOT-E 13214 | Union Pacific Railroad Company, Omaha, NE | 49 CFR 172.203(a), 173.242(c)(1) | Emergency request to authorize the transportation in commerce of certain Division 1.1, 1.2 and 1.3 explosives by rail without conforming to the positioning requirements of 49 CFR 174.85 for purposes of national security. (mode 1)
EE 13216-N | DOT-E 13216 | Autoliv/General Motors, Corporation, Ogden, UT | 49 CFR 172.704(a)(1) | Application for an emergency exemption to authorize the shipments of airbags and seatbelt pretensioners being recalled. The applicant requests relief from section 172.704 which addresses the general awareness / familiarization training. (modes 1, 3)
EE 13217-N | DOT-E 13217 | Belshire Environmental Services, Inc., Lake Forest, CA | 49 CFR 173.202 | Emergency request to authorize the transportation in commerce of gasoline in equipment (gasoline dispensers) by highway. (mode 1)

Denials
12701-N | Request by Fuel Cell Components & Integrators, Inc. Hauppauge, NY to authorize the transporation in commerce of non-DOT specification cylinders comparable to Specification 4E for use in transporting compressed gas denied March 27, 2003.
13111-N | Request by Fisher Scientific Chemical Division Fair Lawn, NJ to authorize the transportation in commerce of 70% nitric acid, Class 8, in certain single and combination packagings which is currently forbidden denied March 18, 2003.
13162-N | Request by Exact Sciences Corporation Maynard, MA to authroize the transportation in commerce of diagnostic specimens, Division 6.2, in quantities greater than presently authroized, to be transported as unregulated denied February 13, 2003.

[FR Doc. 03-16978 Filed 7-3-03; 8:45 am]

BILLING CODE 4909-60-M